DEPARTMENT OF COMMERCE

National Oceanic and Atmospheric Administration

RIN 0648-XF983

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a 2-day meeting in March 8-9, 2018, to discuss items contained in the agenda in the SUPPLEMENTARY INFORMATION.

DATES: The meeting will be held on March 8 and 9, 2018, starting at 10 a.m. until 4 p.m. each day.

ADDRESSES: The meeting will be held at the Council Office, 270 Muñoz Rivera Avenue, Suite 401, San Juan, Puerto Rico.

FOR FURTHER INFORMATION CONTACT: Caribbean Fishery Management Council, 270 Muñoz Rivera Avenue, Suite 401, San Juan, Puerto Rico 00918-1903, telephone: (787) 766-5926.

SUPPLEMENTARY INFORMATION:

March 8, 2018, 10 a.m.-4 p.m.

—Call to Order

—Adoption of Agenda

—OEAP Chairperson's Report

• Status of:

—OEAP members meeting attendance

—CFMC Report 160th and 161th Regular Meetings

—Hurricane impacts on fisheries in the region

—USVI activities

—Island-Based Fishery Management Plans (IBFMPs)

Orientation meetings

—Fishery Ecosystem Plan (FEP)

Outreach & Education products and activities for fishers and consumers

—Responsible Seafood Consumption Campaign

March 9, 2018, 10 a.m.-4 p.m.

—PR Fishers video by GeoAmbiente

—2019 Calendar

—Caribbean Fishery App

—CFMC Facebook communications with stakeholders

—PEPCO

—MREP Caribbean

—Other Business

Special Accommodations

The meeting is physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Dated: February 7, 2018.
Tracey L. Thompson,
Acting Deputy Director, Office of Sustainable Fisheries, National Marine Fisheries Service.

[FR Doc. 2018-02732 Filed 2-9-18; 8:45 am]

BILLING CODE 3510-22-P